NUCLEAR REGULATORY COMMISSION

[NRC-2010-0312]

Issuance of Regulatory Guides

AGENCY: Nuclear Regulatory Commission.

ACTION: Notice.

SUMMARY: The Nuclear Regulatory Commission (NRC) is providing notice of the issuance and availability of Regulatory Guides 1.84, Rev. 35, “Design, Fabrication, and Materials Code Case Acceptability, ASME Section III,” and RG 1.147, Rev. 16, “Inservice Inspection Code Case Acceptability, ASME Section XI, Division 1.”

FOR FURTHER INFORMATION CONTACT: Wallace E. Norris, Component Integrity Branch, Division of Engineering, Office of Nuclear Regulatory Research, U.S. Nuclear Regulatory Commission, Washington, DC 20555-0001, telephone (301) 251-7650 or e-mail Wallace.Norris@nrc.gov.

SUPPLEMENTARY INFORMATION:

I. Introduction

The NRC is issuing two final Regulatory Guides (RGs) in the agency's “Regulatory Guide” series: RG 1.84 and RG 1.147. This series was developed to describe and make available to the public specific program information. This information includes methods acceptable to the NRC staff for implementing specific parts of the agency's regulations, techniques the staff uses in evaluating specific problems or postulated accidents, and data the staff needs in its review of applications for permits and licenses.

The NRC published a proposed rule that would incorporate by reference RG 1.84, Revision 35, and RG 1.147, Revision 16, on June 2, 2009, 74 FR 26303. On the same date, the NRC published a parallel notice of availability for the draft regulatory guides and opportunity for public comment. See, 74 FR 26440. The NRC provided a 75-day public comment period for both the proposed rule and the draft RGs, which ended on August 17, 2009.

This Notice of Issuance and Availability addresses final RGs 1.84 and 1.147. The final rule that incorporates RG 1.84 and RG 1.147 by reference into Title 10, part 50, of the Code of Federal Regulations (10 CFR Part 50), “Domestic Licensing of Production and Utilization Facilities” contains the regulatory analysis and responses to the public comments relative to the final RGs and is available in the NRC's Agencywide Documents Access and Management System (ADAMS) under Accession No. ML100560148. For further information on the final rule, contact Manash K. Bagchi, Office of Nuclear Reactor Regulation, U.S. Nuclear Regulatory Commission, Washington, DC 20555-0001, telephone (301) 415-2905, e-mail Manash.Bagchi@nrc.gov.

This action allows nuclear power plant licensees, and applicants for standard design certifications, standard design approvals, and manufacturing licenses under the regulations that govern license certifications, and approves the nuclear power plants to use the Code Cases listed in these RGs as alternatives to requirements in the ASME Boiler and Pressure Vessel (BPV) Code regarding the construction and in-service inspection (ISI) of nuclear power plant components. RG 1.84 lists all Section III Code Cases that NRC has approved for use, and RG 1.147 lists all Section XI Code Cases that have been approved for use. For these RG revisions, NRC reviewed the Code Cases listed in Supplements 2B11 to the 2004 Edition of the ASME BPV Code and Supplement 0 to the 2007 Edition (Supplement 0 also serves as Supplement 12 to the 2004 Edition).

II. Further Information

Copies of the RGs are available in ADAMS under Accession Numbers ML101800532 (RG 1.84) and ML101800536 (RG 1.147). Electronic copies of RG 1.84 and RG 1.147 are available through the NRC=s public Web site under “Regulatory Guides” at http://www.nrc.gov/reading-rm/doc-collections/.

In addition, RGs are available for inspection at NRC's Public Document Room (PDR) located at 11555 Rockville Pike, Rockville, Maryland. The PDR's mailing address is USNRC PDR, Washington, DC 20555-0001. The PDR also can be reached by telephone at (301) 415-4737 or (800) 397-4205, by fax at (301) 415-3548, and by e-mail to pdr.resource@nrc.gov.

Regulatory guides are not copyrighted and NRC approval is not required to reproduce them.

Dated at Rockville, Maryland, this 23rd day of September, 2010.
For the U.S. Nuclear Regulatory Commission.
Brian W. Sheron,
Director, Office of Nuclear Regulatory Research.

[FR Doc. 2010-24812 Filed 10-4-10; 8:45 am]

BILLING CODE 7590-01-P